DEPARTMENT OF COMMERCE

Bureau of Industry and Security

15 CFR Part 744

[Docket No. 231005-0238]

RIN 0694-AJ40

Addition of Entities to the Entity List

AGENCY: Bureau of Industry and Security, Department of Commerce.

ACTION: Final rule.

SUMMARY: In this rule, the Bureau of Industry and Security (BIS) amends the Export Administration Regulations (EAR) by adding 49 entities under 52 entries to the Entity List. These entries are under the destinations of the People's Republic of China (China) (42), Estonia (1), Finland (1), Germany (1), India (3), Turkey (2), United Arab Emirates (1), and the United Kingdom (1). Some entities may have multiple entries, accounting for the difference in the total number of entities and entries. These 49 entities have been determined by the U.S. Government to be acting contrary to the national security or foreign policy interests of the United States.

DATES: This rule is effective on October 6, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add the following 49 entities to the Entity List: ACE Electronics (HK) Co., Limited; Alliance Electro Tech Co., Limited; Alpha Trading Investments Limited; Asia Link Shanghai Int'l Logistics Co., Ltd.; Benico Limited; Check IC Solution Limited; Chengdu Jingxin Technology Co. Ltd.; E-Chips Solution Co. Ltd.; Farteco Limited; Glite Electronic Technology Co., Limited; Global Broker Solutions Limited; Grants Promotion Service Limited; Guangdong Munpower Electronic Commerce Co. Ltd.; Huayuanshitong Technology Co. Ltd.; IMAXChip; Insight Electronics; Kingford PCB Electronics Co., Ltd.; Kobi International Company; Most Technology Limited; New Wally Target International Trade Co., Limited; Nuopuxun Electronic Technology Co., Limited; Onstar Electronics Co. Ltd.; Robotronix Semiconductors Limited; Rui En Koo Technology Co. Ltd; Shaanxi Yingsaeir Electronic Technology Co. Ltd.; Shanghai IP3 Information Technology Co. Ltd.; Shenzhen One World International Logistics Co., Limited; Shvabe Opto-Electronics Co. LTD.; Suntop Semiconductor Co., LTD.; Tordan Industry Limited; TYT Electronics Co. Ltd.; UCreate Electronics Group; Wargos Industry Limited; Win Key Limited; Xin Quan Electronics Hong Kong Co. Limited; ZeYuan Technology Limited; Zhejiang Foso Electronics Technology Co. Ltd.; Zixis Limited; and Zone Chips Electronics Hong Kong Co. Limited under the destination of China; C & I Semiconductor Co. Ltd. under the destinations of China and India; China Shengshi International Trade Ltd. under the destinations of China and the United Kingdom; PT Technology Asia Limited under the destinations of China and Finland; Elmec Trade OU under the destination of Estonia; Interquest GmbH under the destination of Germany; Abhar Technologies and Services Private Limited; and Innovio Ventures under the destination of India; LL Chip Elektrik Elektronic Paz; and Scitech Tasimacilik Ticaret Limited under the destination of Turkey; and Hulm al Sahra Elect Devices TR under the destination of the United Arab Emirates.

These entities are added to the Entity List for providing support to Russia's military and/or defense industrial base. Specifically, these entities supplied Russian consignees connected to the Russian defense sector with U.S.-origin integrated circuits after March 1, 2023. These integrated circuits are classified under Harmonized Tariff System (HTS)-6 codes 854231, 854232, 854233, and/or 854239. These HTS-6 codes are identified under supplement no. 4 to part 746 (Russian and Belarusian Industry Sector Sanctions Pursuant to § 746.5(a)(1)(ii)). All U.S.-origin items classified under these HTS-6 codes have been controlled for export and reexport and transfer within Russia since September 15, 2022. Such U.S.-origin items require a license under § 746.5(a)(1)(ii) of the EAR when destined to Russia or Belarus.¹

¹ On February 24, 2023 (88 FR 12150), BIS also expanded controls to include certain foreign-made items classified under the same HTS-6 codes destined to Russia, due to their demonstrated use in weapons found on the battlefield in Ukraine. Such foreign-made items are subject to the EAR and the license requirements of § 746.8(a)(2) when a reexport, export from abroad, or transfer (in-country) meets the destination scope of the Russia/Belarus/Temporarily occupied Crimea region of Ukraine FDP rule described in § 734.9(f) of the EAR.

Therefore, the documented shipments by these entities to Russia of such U.S.-origin items are contrary to U.S. national security and foreign policy interests under § 744.11(b) of the EAR. All entities added by this rule have a license requirement for all items subject to the EAR, and a license review policy of denial.

For the reasons described above, this final rule adds 49 entities under the following 52 entries, including aliases where appropriate, to the Entity List:

China

• Ace Electronics (HK) Co., Limited;

• Alliance Electro Tech Co., Limited;

• Alpha Trading Investments Limited;

• Asialink Shanghai Int'l Logistics Co., Ltd.;

• Benico Limited;

• C & I Semiconductor Co., Ltd.;

• Check IC Solution Limited;

• Chengdu Jingxin Technology Co. Ltd.;

• China Shengshi International Trade Ltd.;

• E-Chips Solution Co. Ltd.;

• Farteco Limited;

• Glite Electronic Technology Co., Limited;

• Global Broker Solutions Limited;

• Grants Promotion Service Limited;

• Guangdong Munpower Electronic Commerce Co. Ltd.;

• Huayuanshitong Technology Co. Ltd.;

• IMAXChip;

• Insight Electronics;

• Kingford PCB Electronics Co., Ltd.;

• Kobi International Company;

• Most Technology Limited;

• New Wally Target International Trade Co., Limited;

• Nuopuxun Electronic Technology Co., Limited;

• Onstar Electronics Co. Ltd.;

• PT Technology Asia Limited;

• Robotronix Semiconductors Limited;

• Rui En Koo Technology Co. Ltd;

• Shaanxi Yingsaeir Electronic Technology Co. Ltd.;

• Shanghai IP3 Information Technology Co. Ltd.;

• Shenzhen One World International Logistics Co., Limited;

• Shvabe Opto-Electronics Co. LTD.;

• Suntop Semiconductor Co., LTD.;

• Tordan Industry Limited;

• TYT Electronics Co. Ltd.;

• UCreate Electronics Group;

• Wargos Industry Limited;

• Win Key Limited;

• Xin Quan Electronics Hong Kong Co., Limited;

• ZeYuan Technology Limited;

• Zhejiang Foso Electronics Technology Co. Ltd.;

• Zixis Limited; and

• Zone Chips Electronics Hong Kong Co., Limited.

Estonia

• Elmec Trade OU.

Finland

• PT Technology Asia Limited.

Germany

• Interquest GmbH.

India

• Abhar Technologies and Services Private Limited;

• C & I Semiconductor Co., Ltd.; and

• Innovio Ventures.

Turkey

• LL Chip Elektrik Elektronic Paz; and

• Scitech Tasimacilik Ticaret Limited.

UAE

• Hulm al Sahra Elect Devices TR.

United Kingdom

• China Shengshi International Trade Ltd.

Savings Clause

For the changes being made in this final rule, shipments of items removed from eligibility for a License Exception or export, reexport, or transfer (in-country) without a license (NLR) as a result of this regulatory action that were en route aboard a carrier to a port of export, reexport, or transfer (in-country), on October 6, 2023, pursuant to actual orders for export, reexport, or transfer (in-country) to or within a foreign destination, may proceed to that destination under the previous eligibility for a License Exception or export, reexport, or transfer (in-country) without a license (NLR) before November 6, 2023. Any such items not actually exported, reexported or transferred (in-country) before midnight, on October 6, 2023, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement no. 4 to part 744 is amended by:

a. Under CHINA, PEOPLE'S REPUBLIC OF, adding in alphabetical order, entries for “Ace Electronics (HK) Co., Limited;” “Alliance Electro Tech Co., Limited;” “Alpha Trading Investments Limited;” “Asialink Shanghai Int'l Logistics Co., Ltd.;” “Benico Limited;” “C & I Semiconductor Co., Ltd.;” “Check IC Solution Limited;” “Chengdu Jingxin Technology Co. Ltd.;” “China Shengshi International Trade Ltd.;” “E-Chips Solution Co. Ltd.;” “Farteco Limited;” “Glite Electronic Technology Co., Limited;” “Global Broker Solutions Limited;” “Grants Promotion Service Limited;” “Guangdong Munpower Electronic Commerce Co. Ltd.;” “Huayuanshitong Technology Co. Ltd.;” “IMAXChip;” “Insight Electronics;” “Kingford PCB Electronics Co., Ltd.;” “Kobi International Company;” “Most Technology Limited;” “New Wally Target International Trade Co., Limited;” “Nuopuxun Electronic Technology Co., Limited;” “Onstar Electronics Co. Ltd.;” “PT Technology Asia Limited;” “Robotronix Semiconductors Limited;” “Rui En Koo Technology Co. Ltd;” “Shaanxi Yingsaeir Electronic Technology Co. Ltd.;” “Shanghai IP3 Information Technology Co. Ltd.;” “Shenzhen One World International Logistics Co., Limited;” “Shvabe Opto-Electronics Co. LTD.;” “Suntop Semiconductor Co., LTD.;” “Tordan Industry Limited;” “TYT Electronics Co. Ltd.;” “UCreate Electronics Group;” “Wargos Industry Limited;” “Win Key Limited;” “Xin Quan Electronics Hong Kong Co., Limited;” “ZeYuan Technology Limited;” “Zhejiang Foso Electronics Technology Co. Ltd.;” “Zixis Limited;” and “Zone Chips Electronics Hong Kong Co., Limited.”

b. Under ESTONIA, adding, in alphabetical order, an entry for “Elmec Trade OU.”

c. Under FINLAND, adding, in alphabetical order, an entry for “PT Technology Asia Limited.”

d. Under GERMANY, adding, in alphabetical order, an entry for “Interquest GmbH.”

e. Under INDIA, adding, in alphabetical order, entries for “Abhar Technologies and Services Private Limited;” “C & I Semiconductor Co., Ltd.;” and “Innovio Ventures.”

f. Under TURKEY, adding, in alphabetical order, entries for “LL Chip Elektrik Elektronic Paz” and “Scitech Tasimacilik Ticaret Limited.”

g. Under UNITED ARAB EMIRATES, adding, in alphabetical order, an entry for “Hulm al Sahra Elect Devices TR.”

h. Under UNITED KINGDOM, adding, in alphabetical order, an entry for “China Shengshi International Trade Ltd.”

The additions read as follows:

Supplement No. 4 to Part 744—Entity List

* * * * *

Country | Entity | License requirement | License review policy | Federal Register citation
* * * * * * *
CHINA, PEOPLE'S REPUBLIC OF
* * * * * *
| Ace Electronics (HK) Co., Limited, a.k.a., the following two aliases: —ACE (HK) Electronics Technology Co., Ltd; and —Ace Electronic (HK) Co., Ltd. | For all items subject to the EAR. (See § 744.11 of the EAR) | Policy of denial | 88 FR [INSERT FR PAGE NUMBER; October 11, 2023.
| 18F Block B, World Trade Plaza, No. 9 Fuhong Road, Futian District, Shenzhen, Guangdong, China; and E2 Unit, 22/F Kingsway Industrial Building Phase II, 167-175 Wo Yi Hop Road, Kwai Chung, New Territories, Hong Kong; and 9F International Technology Building No. 3007, Shennan Avenue, Futian District, Shenzhen, Guangdong, China; and Unit 04 7/F Bright Way Tower, No. 33 Mong Kok Road, Kowloon, Hong Kong. |  |  |
* * * * * *
| Alliance Electro Tech Co., Limited, 114-118 Lockhart Road, Gaylord Commercial Building, 5th Floor, Room B, Hong Kong. | For all items subject to the EAR. (See § 744.11 of the EAR) | Policy of denial | 88 FR [INSERT FR PAGE NUMBER; October 11, 2023.
* * * * * *
| Alpha Trading Investments Limited, a.k.a., the following two aliases: —Alpha Trading Investments; and —Alpha Trading Investments Ltd. | For all items subject to the EAR. (See § 744.11 of the EAR) | Policy of denial | 88 FR [INSERT FR PAGE NUMBER; October 11, 2023.
| Unit 617, 6/F Solo Workshops 131-132, Connaught Road West, Hong Kong. |  |  |
* * * * * *
| Asialink Shanghai Int'l Logistics Co., Ltd., a.k.a., the following two aliases: —Asialink; and —Asialink Xi'an Int'l Logistics Co., Ltd. | For all items subject to the EAR. (See § 744.11 of the EAR) | Policy of denial | 88 FR [INSERT FR PAGE NUMBER; October 11, 2023.
| 1128 Tianyueqiao South Road, Building 8, Room 319, Xuhui District, Shanghai, China; and 218 West Tian Mu Road, Kerry Everbright City Tower 1 Offices 2508-2510, Jing'an District, Shanghai, 200070, China; and 3rd Kong Gang West Road, Xi'an Xianyang International Airport Offices 211-212, Kong Gang New Area, XiXian District, Xi'an, Shaanxi,710000, China; and 17 Xinda Road, Building 7, 4th Floor Office 437, Shunyi District, Beijing, 101399, China; and 158 Hangzhong Road, East Tower, Room 1607, Zhabei District, Shanghai, 200070, China. |  |  |
* * * * * *
| Benico Limited, Valiant Industrial Center, 10th Floor, Room U, Sha Tin, Hong Kong; and 11 On Lai Street, Corporation Park, 6th Floor, Room 617, Sha Tin, Hong Kong. | For all items subject to the EAR. (See § 744.11 of the EAR) | Policy of denial | 88 FR [INSERT FR PAGE NUMBER; October 11, 2023.
* * * * * *
| C & I Semiconductor Co., Ltd., a.k.a., the following one alias: —China India Semiconductor Co. Ltd. | For all items subject to the EAR. (See § 744.11 of the EAR) | Policy of denial | 88 FR [INSERT FR PAGE NUMBER; October 11, 2023.
| Ko Fai Road Block A1, 8th Floor, Room A4, Yau Tong Industrial City, Kowloon, Hong Kong. (See alternate address under India). |  |  |
* * * * * *
| Check IC Solution Limited, 2-16 Fa Yuen Street, Ho King Commercial Building, 10th Floor, Room 1005, Mong Kok, Kowloon, Hong Kong. | For all items subject to the EAR. (See § 744.11 of the EAR) | Policy of denial | 88 FR [INSERT FR PAGE NUMBER; October 11, 2023.
* * * * * *
| Chengdu Jingxin Technology Co. Ltd., a.k.a., the following one alias: —Chengdu Jingxin Teck Inc. | For all items subject to the EAR. (See § 744.11 of the EAR) | Policy of denial | 88 FR [INSERT FR PAGE NUMBER; October 11, 2023.
| 118 Jitai 5th Road, Building 3, 8th Floor, Room 5, Chengdu High-Tech Zone, China Pilot Free Trade Zone, Chengdu, Sichuan, 610000, China; and 5th Street, Jingrong Start-Up Hub, Tianfu, Chengdu, Sichuan, 610000, China; and No. 97 Shiren N. Road, Floor 2, Qingyang District, Chengdu, Sichuan, 610014 China. |  |  |
* * * * * *
| China Shengshi International Trade Ltd., a.k.a., the following one alias: —Hong Kong Development Group. | For all items subject to the EAR. (See § 744.11 of the EAR) | Policy of denial | 88 FR [INSERT FR PAGE NUMBER; October 11, 2023.
| 21 Jianshe Road, Yufeng Building Room 313B, Xitou Xincun District 3, Longhua District, Shenzhen, Guangdong, China. (See alternate address under United Kingdom). |  |  |
* * * * * *
| E-Chips Solution Co. Ltd., a.k.a., the following one alias: —Yichuangxin International Ltd. | For all items subject to the EAR. (See § 744.11 of the EAR) | Policy of denial | 88 FR [INSERT FR PAGE NUMBER; October 11, 2023.
| Shen Nan Road Block A, JiaHe HuaQiang Building, Room 3008, Futian District, Shenzhen, Guangdong, 518031, China. |  |  |
* * * * * *
| Farteco Limited, a.k.a., the following one alias: —Farteco Ltd. | For all items subject to the EAR. (See § 744.11 of the EAR) | Policy of denial | 88 FR [INSERT FR PAGE NUMBER; October 11, 2023.
| 501-503 Castle Peak Road, Unit B090, International Industrial Building, Kowloon, Hong Kong; and Unit D, 16/F One Capital Place, 18 Luard Rd, Wan Chai, Hong Kong; and Unit B909, 9th Floor, International Industrial Building, 501-503 Castle Peak Rd., Kowloon, Hong Kong. |  |  |
* * * * * *
| Glite Electronic Technology Co., Limited, Xiangmihu Road, Building 1, Room 1002, Shenzhen, Guangdong, China; and Fuhong Road, World Trade Plaza, Building A, Room 1106, Funan Community, Futian District, Shenzhen, Guangdong, China. | For all items subject to the EAR. (See § 744.11 of the EAR) | Policy of denial | 88 FR [INSERT FR PAGE NUMBER; October 11, 2023.
| Global Broker Solutions Limited, 11 Shing Yip Street, Wah Shing Center, 9th Floor, Unit 9, Kwun Tong, 518002, Hong Kong; and 54-56 Jervois Street, Lower Ground Floor, Room B, Sheung Wan, Hong Kong. | For all items subject to the EAR. (See § 744.11 of the EAR) | Policy of denial | 88 FR [INSERT FR PAGE NUMBER; October 11, 2023.
| Grants Promotion Service Limited, a.k.a., the following three aliases: —Catalano Limited; —Zhenao Co. Ltd.; and —GPSL. | For all items subject to the EAR. (See § 744.11 of the EAR) | Policy of denial | 88 FR [INSERT FR PAGE NUMBER; October 11, 2023.
| 430-436 Nathan Road, Nathan Commercial Building, 8th Floor, Room A, Yau Ma Tei, Hong Kong. |  |  |
| Guangdong Munpower Electronic Commerce Co. Ltd., a.k.a., the following one alias: —Guangzhou Munpower Electronic Technology Co. Ltd. | For all items subject to the EAR. (See § 744.11 of the EAR) | Policy of denial | 88 FR [INSERT FR PAGE NUMBER; October 11, 2023.
| 38 Renzhen Xixing Street, Baiyun District, Guangzhou, Guangdong, China; and 82 Langbao West Road, 6th Floor, Rooms 605-610, Chancheng District, Foshan, Guangdong, China. |  |  |
* * * * * *
| Huayuanshitong Technology Co. Ltd., a.k.a., the following two aliases: —Shenzhen Huayuanshitong Technology Limited; and —HK Huayuanshitong Technology Limited. | For all items subject to the EAR. (See § 744.11 of the EAR) | Policy of denial | 88 FR [INSERT FR PAGE NUMBER; October 11, 2023.
| Middle Shennan Road Block B, Jiahe Huaquiang Building, Room 1309, Futian District, Shenzhen, Guangdong, China; and Zhenhua Road, Gaokede Electronics Market, Room 62826, Futian District, Shenzhen, Guangdong, China; and 1002 Seg Plaza, 32nd Floor, Room 3203, Huaqiao, Shenzhen, Guangdong, China. |  |  |
* * * * * *
| IMAXChip, No. 59 King Yip Street, King Yip Factory Building, 5th Floor, Unit D5, Kwun Tong, Kowloon, Hong Kong; and Shennan Middle Road, International Culture Building, Room 2508B, Futian District, Shenzhen, Guangdong, China; and Kwun Tong Industrial Center Phase 3, 3rd Floor, Unit L, Kwun Tong, Kowloon, Hong Kong; and Nos. 436-446 Kwun Tong Road, 13th Floor, Unit A15, Kowloon, Hong Kong; and Shennan Road, Phoenix Building 2, Room 18E, Futian District, Shenzhen, Guangdong, 518000, China; and Lianqiu Building, No. 735 Renmin West Road, Wucheng District, Jinhua, Zhejiang, China; and Shenfang Building B3109, Futian District, Shenzhen, Guangdong, 518031, China. | For all items subject to the EAR. (See § 744.11 of the EAR) | Policy of denial | 88 FR [INSERT FR PAGE NUMBER; October 11, 2023.
* * * * * *
| Insight Electronics, No. 195 Keji Road, Room 12A06, Block A, Century Yi Yuan, Yanta District, Xi'an, Shaanxi, China; and Nos. 351 & 353 King's Road, Bank Tower, 3rd Floor, Flat 3B, North Point, Hong Kong | For all items subject to the EAR. (See § 744.11 of the EAR) | Policy of denial | 88 FR [INSERT FR PAGE NUMBER; October 11, 2023.
* * * * * *
| Kingford PCB Electronics Co., Ltd., a.k.a., the following two aliases: —Shenzhen Jingfu Circuit Board Co., Ltd.; and —Shenzhen Xinjingfu Technology Co., Ltd. | For all items subject to the EAR. (See § 744.11 of the EAR) | Policy of denial | 88 FR [INSERT FR PAGE NUMBER; October 11, 2023.
| Building 6, Longhui Industrial Park, Fuqiao Third Industrial Zone, Fuyong Town, Bao'an District, Shenzhen, Guangdong, China. |  |  |
* * * * * *
| Kobi International Company, No. 17 Sheung Hei Street, Success Industrial Building, 14th Floor, Room A1, San Po Kong, Kowloon, Hong Kong. | For all items subject to the EAR. (See § 744.11 of the EAR) | Policy of denial | 88 FR [INSERT FR PAGE NUMBER; October 11, 2023.
* * * * * *
| Most Technology Limited, Nos. 436-446 Kwun Tong Road, Block 4, 14th Floor, Room A15, Kowloon, Hong Kong; and 59 King Yip Street, King Yip Factory Building, 5th Floor, Room D5, Kwun Tong, Hong Kong; No. 75-77 Garden Street, Garden Commercial Building, 7th Floor, Room 705, Mong Kok, Kowloon, Hong Kong. | For all items subject to the EAR. (See § 744.11 of the EAR) | Policy of denial | 88 FR [INSERT FR PAGE NUMBER; October 11, 2023.
* * * * * *
| New Wally Target International Trade Co., Limited, 91-97 Jervois Street, Tung Lee Commercial Building, 19th Floor, Room B3, Sheung Wan, Hong Kong. | For all items subject to the EAR. (See § 744.11 of the EAR) | Policy of denial | 88 FR [INSERT FR PAGE NUMBER; October 11, 2023.
* * * * * *
| Nuopuxun Electronic Technology Co., Limited, a.k.a., the following one alias: —Shenzhen Nuopuxun Electronic Technology Co., Ltd. | For all items subject to the EAR. (See § 744.11 of the EAR) | Policy of denial | 88 FR [INSERT FR PAGE NUMBER; October 11, 2023.
| Huishang Center 3809, Futian District, Shenzhen, Guangdong, China; and No. 4 Longshan 4th Road, Building F, Floor 2, Third Industrial Zone, Songgang Community, Bao'an District, Shenzhen, Guangdong, 518015, China. |  |  |
* * * * * *
| Onstar Electronics Co. Ltd., No. 45 Hoi Yuen Road, Yau Lee Center, 3rd Floor, Unit 83, Kwun Tong, Kowloon, Hong Kong; and Zhonghang Road, Dynamic World Building Room 811, Futian District, Shenzhen, Guangdong, 18031, China. | For all items subject to the EAR. (See § 744.11 of the EAR) | Policy of denial | 88 FR [INSERT FR PAGE NUMBER; October 11, 2023.
* * * * * *
| PT Technology Asia Limited, a.k.a., the following one alias: —PT-Technology Asia Limited. | For all items subject to the EAR. (See § 744.11 of the EAR) | Policy of denial | 88 FR [INSERT FR PAGE NUMBER; October 11, 2023.
| 615-617 Tai Nan West Street, Park Fook Industrial Building, Room 623, Kowloon, Hong Kong; and Wah Kit Commercial Building, 11th Floor, Room B, Sheung Wan, Hong Kong. (See alternate address under Finland). |  |  |
* * * * * *
| Robotronix Semiconductors Limited, 89 Lockhart Road, Wan Chai Central Building, 4th Floor, Room 401, Wan Chai, Hong Kong. | For all items subject to the EAR. (See § 744.11 of the EAR) | Policy of denial | 88 FR [INSERT FR PAGE NUMBER; October 11, 2023.
* * * * * *
| Rui En Koo Technology Co. Ltd, a.k.a., the following two aliases: —Rui En Koo Technology; and —Rui En Ke Technology Co. Ltd. | For all items subject to the EAR. (See § 744.11 of the EAR) | Policy of denial | 88 FR [INSERT FR PAGE NUMBER; October 11, 2023.
| 59 King Yip Street, King Yip Factory Building, 7th Floor, Room B22, Kwun Tong, Kowloon, Hong Kong; and Fenghuang Street, Nantaiyun Chuanggu Center Building 4, Room 1202, Guangming District, Shenzhen, Guangdong, 518132, China. |  |  |
* * * * * *
| Shaanxi Yingsaeir Electronic Technology Co. Ltd., a.k.a., the following two aliases: —Shaanxi Yingsaier Electronic Science & Technology Co. Ltd.; and —Shaanxi Yingsai'er Commerce and Trade Co. Ltd. | For all items subject to the EAR. (See § 744.11 of the EAR) | Policy of denial | 88 FR [INSERT FR PAGE NUMBER; October 11, 2023.
| No. 28 Xinxi Avenue, Zone B of Shaanxi Xi'an Export Processing Zone, 3A Section 6, Xi'an, 710119, China; and No. 10804, Floor 8, Unit 1, Building No. 2, Xibeijiao More Center, Keji 6th Road, Fenghui S. Road, High-Tech Zone, Xi'an, Shaanxi, China; and No. 195 Keji Road, Room 12A06, Block A, Century Yiyuan, Yanta District, Xi'an, Shaanxi, China. |  |  |
* * * * * *
| Shanghai IP3 Information Technology Co. Ltd., No. 68, Zhongchuang Road, Building 16, 2nd Floor, Songjiang District, Shanghai, 200001, China. | For all items subject to the EAR. (See § 744.11 of the EAR) | Policy of denial | 88 FR [INSERT FR PAGE NUMBER; October 11, 2023.
* * * * * *
| Shenzhen One World International Logistics Co., Limited, Shennan East Road, Hongchang Square Building, 30th Floor, Room 3005, Luohu District, Shenzhen, Guangdong, 518002, China; and 8 Leung Yip Street, Kar Wah Industrial Building, 7th Floor, Room 18, Yuen Long, Hong Kong; and No. 1 Liyumen Street, Room 201, Building A, Zonghe Office, Qianhai Shenzhen-Hong Kong Cooperation Zone Administration, Shenzhen, Guangdong, China. | For all items subject to the EAR. (See § 744.11 of the EAR) | Policy of denial | 88 FR [INSERT FR PAGE NUMBER; October 11, 2023.
* * * * * *
| Shvabe Opto-Electronics Co. LTD., a.k.a., the following three aliases: —UOMZ (Meizhou) Co., Ltd.; —Shvabe Opto-Electronics Shenzhen Co. Ltd.; and —Shvabe Opto-Electronics Meizhou Co. Ltd. | For all items subject to the EAR. (See § 744.11 of the EAR) | Policy of denial | 88 FR [INSERT FR PAGE NUMBER; October 11, 2023.
| 16 A, No. 4044 Pingshan Road, Building 16, Room A, Heping Street, Shenzhen, Guangdong, China; and No. 4044 Pingshan Road, Investment Building, Room 1619, Heping Street, Pingshan District, Shenzhen, Guangdong, 518118, China; and No. 20 Meilong Road, Bati Dasha 3rd Floor, Room 303, Meizhou City, Guangdong, China. |  |  |
* * * * * *
| Suntop Semiconductor Co., LTD., No. 34-36 Au Pui Wan Street, Block B, Veristrong Industrial Centre, 12th Floor, Room 03, Shatin, New Territory, Hong Kong; and No. 116-118 How Ming Street, Manning Industrial Building, 1st Floor, Room B5, Kwun Tong, Kowloon, Hong Kong; and Zhonghang Road, Dynamic World Building, Room 811, Futian District, Shenzhen, Guangdong, 518031, China. | For all items subject to the EAR. (See § 744.11 of the EAR) | Policy of denial | 88 FR [INSERT FR PAGE NUMBER; October 11, 2023.
* * * * * *
| Tordan Industry Limited, a.k.a., the following two aliases: —Tordan Industry; and —Tordan Industry Ltd. | For all items subject to the EAR. (See § 744.11 of the EAR) | Policy of denial | 88 FR [INSERT FR PAGE NUMBER; October 11, 2023.
| Unit 617, 6/F, 131-132 Connaught Road West, Solo Workshops, Hong Kong. |  |  |
* * * * * *
| TYT Electronics Co. Ltd., a.k.a., the following one alias: —Quanzhou Nan'an Teyitong Electronics Co., Ltd. Block 39-1, Optoelectronics-Information Industry Building, Nan'an, Quanzhou, Fujian, China. | For all items subject to the EAR. (See § 744.11 of the EAR) | Policy of denial | 88 FR [INSERT FR PAGE NUMBER; October 11, 2023.
| UCreate Electronics Group, a.k.a., the following one alias: —UCreate PCB Co., Ltd. | For all items subject to the EAR. (See § 744.11 of the EAR) | Policy of denial | 88 FR [INSERT FR PAGE NUMBER; October 11, 2023.
| No. 42 Caiyun Road, Yunhai Enterprise Headquarters Base, Building C, Room 315, Jixiang Community, Longgang District, Shenzhen, Guangdong, China; and Room 315, Building C, Yunhai Industrial Park, Longgang District, Shenzhen, Guangdong, China; and Xiangshui River Industrial Zone, Daya Bay, No. 11, East District, Industrial Park, Suichuan County, Ji'an, Jiangxi, China; and No. 116 Shuiku Road, Yanda Science Park, Baoan District, Shenzhen, Guangdong, China; and 45-51 Chatham Road, Chevalier House, Room 803, Tsim Sha Tsui, Hong Kong. |  |  |
* * * * * *
| Wargos Industry Limited, No. 131-132 Connaught Road West, Solo Workshops, 6th Floor, Room 617, Hong Kong. | For all items subject to the EAR. (See § 744.11 of the EAR) | Policy of denial | 88 FR [INSERT FR PAGE NUMBER; October 11, 2023.
* * * * * *
| Win Key Limited, a.k.a., the following two aliases: —Win Key; and —Win Key Ltd. | For all items subject to the EAR. (See § 744.11 of the EAR) | Policy of denial | 88 FR [INSERT FR PAGE NUMBER; October 11, 2023.
| Room 1606, 16/F Workingbond Commercial Centre, 162-164 Prince Edward Road West, Mong Kok, Kowloon, Hong Kong; and Unit 1008, 10/F, Sun Cheong Industrial Building, 2-4 Cheung Yee Street, Hong Kong. |  |  |
* * * * * *
| Xin Quan Electronics Hong Kong Co., Limited, a.k.a., the following two aliases: —Xin Quan (HK) Electronics Ltd.; and —XQHK. | For all items subject to the EAR. (See § 744.11 of the EAR) | Policy of denial | 88 FR [INSERT FR PAGE NUMBER; October 11, 2023.
| No. 14-24 Au Pui Wan Street Block 1, Kin Ho Industrial Building, 17th Floor, Room 1, Shatin, New Territories, Hong Kong; and 75-77 Fa Yuen Street, Fa Yuen Commercial Building, Room 705, Kowloon, Hong Kong; and 18 Luard Road, One Capital Place, 16th Floor, Room D, Wan Chai, Hong Kong; and 19-21 Shing Yip Street, Shing Yip Building, Room 1302, Kwun Tong, Kowloon, Hong Kong; and Room B, Bank Tower, Nos. 351 & 353 King's Road, North Point, Hong Kong; and No. 3018, ShenNan Middle Road, Century Place—Duhuixun, Room 2601, Futian, Shenzhen, China. |  |  |
* * * * * *
| ZeYuan Technology Limited, Shennan Middle Road, Futian Building, Room 510, Funan Community, Futian District, Shenzhen, Guangdong, 518000, China; and Room 1007, Funan Community, Futian Street, Futian District, Shenzhen, Guangdong, 518000, China; and Room 3009, Funan Community, Futian Street, Futian District, Shenzhen, Guangdong, 518000, China; and 45-51 Chatham Road South, Chevalier House Room 803, Tsim Sha Tsui, Kowloon, Hong Kong. | For all items subject to the EAR. (See § 744.11 of the EAR) | Policy of denial | 88 FR [INSERT FR PAGE NUMBER; October 11, 2023.
* * * * * *
| Zhejiang Foso Electronics Technology Co. Ltd., No. 8 Haining Avenue, Caohejing Technology Park, Block 13, Haining, Jiaxing, Zhejiang, 314400, China. | For all items subject to the EAR. (See § 744.11 of the EAR) | Policy of denial | 88 FR [INSERT FR PAGE NUMBER; October 11, 2023.
* * * * * *
| Zixis Limited, 501-503 Castle Peak Road, Unit B090, International Industrial Building, Kowloon, Hong Kong; and Unit D, 16/F One Capital Place, 18 Luard Rd, Wan Chai, Hong Kong and Unit A22, Block A, 10/F, Prince Industrial Building, 706 Prince Edward Road East, San Po Kong, Kowloon, Hong Kong. | For all items subject to the EAR. (See § 744.11 of the EAR) | Policy of denial | 88 FR [INSERT FR PAGE NUMBER; October 11, 2023.
* * * * * *
| Zone Chips Electronics Hong Kong Co., Limited, a.k.a., the following two aliases: —BomChips; and —SQXY Technology (Shenzhen) Co. | For all items subject to the EAR. (See § 744.11 of the EAR) | Policy of denial | 88 FR [INSERT FR PAGE NUMBER; October 11, 2023.
| Room 2811/Building Shijihui, Shennan Avenue 3018, Futian District, Shenzhen, China; and Unit 2 D6, 2nd Floor, Mai Wah Industrial Building, Nos. 1/7, Wah Sing Street, Kwai Chung, New Territories, Hong Kong; and 22 Huafu Road, Hangdu Building E, Futian District, Shenzhen, Guangdong, 518000 China; and Metropolitan Heights at Century Place, Room 3417, Shenzhen, Guangdong, 518000, China. |  |  |
* * * * * *
ESTONIA
* * * * * *
| Elmec Trade OU, Katusepapi tn 6-502, Lasnamäe linnaosa, Tallinn, Harju maakond, 11412, Estonia; and Valukoja tn 8/1, Tallinn, 11415, Estonia. | For all items subject to the EAR. (See § 744.11 of the EAR) | Policy of denial | 88 FR [INSERT FR PAGE NUMBER; October 11, 2023.
* * * * * *
FINLAND
* * * * * *
| PT Technology Asia Limited, a.k.a., the following one alias: —PT-Technology Asia Limited. | For all items subject to the EAR. (See § 744.11 of the EAR) | Policy of denial | 88 FR [INSERT FR PAGE NUMBER; October 11, 2023.
| Valtakatu 52, Lappeenranta, 53100, Finland. (See alternate address under China). |  |  |
* * * * * *
GERMANY
* * * * * *
| Interquest GmbH, Karolinenstrasse 21C, Berlin, 13507, Germany. | For all items subject to the EAR. (See § 744.11 of the EAR) | Policy of denial | 88 FR [INSERT FR PAGE NUMBER; October 11, 2023.
* * * * * *
INDIA
* * * * * *
| Abhar Technologies and Services Private Limited, a.k.a., the following one alias: —Abhartech. | For all items subject to the EAR. (See § 744.11 of the EAR) | Policy of denial | 88 FR [INSERT FR PAGE NUMBER; October 11, 2023.
| RMZ Latitude Building, 10th Floor, Bellary Road, Hebbal, Bangalore, Karnataka, 560024, India; and No 6, 80 Feet Road, 4th Block, Koramangala, Bangalore, Karnataka, 560034, India. |  |  |
* * * * * *
| C & I Semiconductor Co., Ltd., a.k.a., the following one alias: —China India Semiconductor Co. Ltd. | For all items subject to the EAR. (See § 744.11 of the EAR) | Policy of denial | 88 FR [INSERT FR PAGE NUMBER; October 11, 2023.
| No. 53 40 Feet Road 3rd Cross, Ground Floor, Raghava Nagar,Bangalore, Karnataka, 560026, India. (See alternate address under China). |  |  |
* * * * * *
| Innovio Ventures, 944 Block C Sushant Lok Phase 1, Gurugram, Haryana, 122001, India; and Basai Road, Shop No-141, Gurgaon, Haryana, 122001, India. | For all items subject to the EAR. (See § 744.11 of the EAR) | Policy of denial | 88 FR [INSERT FR PAGE NUMBER; October 11, 2023.
* * * * * *
* * * * * * *
TURKEY
* * * * * *
| LL Chip Elektrik Elektronic Paz, a.k.a., the following three aliases: —LL Chip Elektrik Elektronik Pazarlama Ic ve Dis Ticaret Limited Sirketi; —LL Chip Ltd.; and —LL Chip Electric Electronic Marketing Domestic and Foreign Trade Limited Company. | For all items subject to the EAR. (See § 744.11 of the EAR) | Policy of denial | 88 FR [INSERT FR PAGE NUMBER; October 11, 2023.
| Merkez Mah., Hasat Sokak Kamara, No: 52, Şişli, Istanbul, 34360, Turkey. |  |  |
* * * * * *
| Scitech Tasimacilik Ticaret Limited, a.k.a., the following two aliases: —Scitech Tasimacililk Ticaret, Limited Sirketi; and —Scitech Transport Trade Limited Company. | For all items subject to the EAR. (See § 744.11 of the EAR) | Policy of denial | 88 FR [INSERT FR PAGE NUMBER; October 11, 2023.
| 235 SK Kamac, Apt No. 6, Ic Kapi No. 3, Yildiz Mah., Muratpasa, Antalya, 11111, Turkey; and 37 Sokak, Cengizhan Apt Block No: 6/102, Kisla Mah., Muratpasa, Antalya, 07040, Turkey. |  |  |
* * * * * *
* * * * * * *
UNITED ARAB EMIRATES
* * * * * *
| Hulm al Sahra Elect Devices TR, a.k.a., the following one alias: —Hulm Al Sahra. | For all items subject to the EAR. (See § 744.11 of the EAR) | Policy of denial | 88 FR [INSERT FR PAGE NUMBER; October 11, 2023.
| P.O. Box 62105, Al Dhaid, New Industrial Area Sharjah, Sharjah, United Arab Emirates; and Building 38, Industrial Area No.1, Al Dhaid City, Sharjah, United Arab Emirates; and Al Khan 2 Street 1, Al Dhaid City, Sharjah, 235545, United Arab Emirates. |  |  |
* * * * * * *
UNITED KINGDOM
* * * * * *
| China Shengshi International Trade Ltd., a.k.a., the following one alias: —Hong Kong Development Group. | For all items subject to the EAR. (See § 744.11 of the EAR) | Policy of denial | 88 FR [INSERT FR PAGE NUMBER; October 11, 2023.
| P.O. Box 957, Offshore Incorporations Center, Road Town, Tortola, British Virgin Islands. (See alternate address under China). |  |  |
* * * * * *
* * * * * * *

Thea D. Rozman Kendler,
Assistant Secretary for Export Administration.

[FR Doc. 2023-22536 Filed 10-6-23; 11:15 am]

BILLING CODE 3510-33-P